DEPARTMENT OF TRANSPORTATION

Federal Aviation Administration

14 CFR Part 39

[Docket No. 99-NM-103-AD; Amendment 39-11726; AD 2000-10-02]

RIN 2120-AA64

Airworthiness Directives; Airbus Model A319, A320, A321, A330, and A340 Series Airplanes

AGENCY: Federal Aviation Administration, DOT.

ACTION: Final rule.

SUMMARY: This amendment adopts a new airworthiness directive (AD), applicable to all Airbus Model A319, A320, A321, A330, and A340 series airplanes, that requires repetitive inspections to detect missing and incorrectly installed parts of the footrest actuator assembly, and replacement of discrepant parts with new parts. This AD also provides for optional terminating action for the repetitive inspections. This amendment is prompted by issuance of mandatory continuing airworthiness information by a foreign civil airworthiness authority. The actions specified by this AD are intended to prevent detachment of the footrest assembly actuator, which could result in partial blockage of the rudder pedals and reduced controllability of the airplane.

DATES: Effective June 19, 2000.

The incorporation by reference of certain publications listed in the regulations is approved by the Director of the Federal Register as of June 19, 2000.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: A proposal to amend part 39 of the Federal Aviation Regulations (14 CFR part 39) to include an airworthiness directive (AD) that is applicable to all Airbus Model A319, A320, A321, A330, and A340 series airplanes was published in the Federal Register on July 14, 1999 (64 FR 37915). That action proposed to require repetitive inspections to detect missing and incorrectly installed parts of the footrest actuator assembly, and replacement of discrepant parts with new parts. That AD also would provide for optional terminating action for the repetitive inspections.

Interested persons have been afforded an opportunity to participate in the making of this amendment. Due consideration has been given to the comments received.

Explanation of Changes Made to This Final Rule

1. The notice of proposed rulemaking (NPRM) references All Operator Telex (AOT) 25-14 (for Model A319, A320, and A321 series airplanes) and AOT 25-13 (for Model A330 and A340 series airplanes); both dated December 17, 1998, as the appropriate sources of service information for accomplishment of the actions specified by paragraph (a) of the NPRM. Instead, this amendment requires that the actions specified by that paragraph be accomplished in accordance with Airbus Service Bulletin A320-25-1220 and A320-25-1225, both dated November 19, 1999 (for Model A319, A320, and A321 series airplanes); A330-25-3105, dated October 22, 1999, and A330-25-3110, dated December 23, 1999 (for Model A330 series airplanes); and A340-25-4131, dated October 22, 1999, and A340-25-4136, dated December 23, 1999 (for Model A340 series airplanes); as applicable. The inspection procedures specified by those service bulletins are similar to the procedures specified by AOT 25-13 and 25-14; however, the service bulletins also include graphics to show the areas of inspection and replacement (repair). Note 2 has been added to this AD to give credit to operators for accomplishment of the actions specified in the AOT's prior to the effective date of this AD.

2. Note 4 of the proposed rule has been renumbered as NOTE 6 in the final rule, and two references to French airworthiness directives have been changed to reflect later revision numbers.

Support for the Proposed Rule

The Air Transport Association (ATA) of America states that one of its members concurs with the proposal and offers no further comments.

Requests To Include Terminating Action

• One commenter states that Airbus Service Bulletin A320-25-1225 includes procedures for the installation of a new footrest actuator, Modification 28472, and that such a modification should be considered terminating action for the repetitive inspections.

The FAA acknowledges the commenter's request and has determined that the installation of Modification 28472 during production or the accomplishment of Airbus Service Bulletin A320-25-1225, or the installation of Modification 47376 during production or the accomplishment of Airbus Service Bulletin A330-25-3110 or A340-25-4136, constitutes optional terminating action for the repetitive inspections required by this AD. In light of this, the FAA has added a new paragraph (c) to the final rule to include this new option.

• Another commenter states that it is in the process of issuing a request for funding to remove the footrest from the seat, and that “it is our expectation that this will be terminating action.”

The FAA acknowledges the commenter's statement and points out that paragraph (b) of the proposed rule provides for optional terminating action for the repetitive inspection requirements of this AD. Therefore, no change to the final rule is necessary in this regard.

Request to Credit Operators With Prior Accomplishment of Inspections

One commenter states that operators were notified of a proposed rule mandating repetitive inspections of the cockpit footrest actuator assembly. The first inspection (detailed visual) was required at 500 flight hours after the effective date of the proposed AD, followed by a repeat inspection at intervals not to exceed 15 months. The commenter also states that AOT 25-14, dated December 17, 1998, specifies a production quality control check and that the manufacturer issued two messages to specify that all airplanes undergoing production quality checks may take credit for accomplishing the inspections specified at 500 flight hours. For this reason, the commenter requests that all airplanes that have accomplished such a check be excluded from the detailed visual inspection within 500 flight hours after the effective date of this AD, and only be required to accomplish that inspection at intervals not to exceed 15 months. The commenter considers that such a policy will not impair the safety of the airplanes.

The FAA concurs and considers that such a check during production would detect any discrepancy, such as a missing or broken retaining clip, and preclude the necessity for the initial inspection at 500 flight hours. For that reason, Note 3, preceding paragraph (a) of this AD, has been added to provide credit for prior accomplishment of the initial detailed visual inspection required by that paragraph.

Conclusion

After careful review of the available data, including the comments noted above, the FAA has determined that air safety and the public interest require the adoption of the rule with the changes described previously. The FAA has determined that these changes will neither increase the economic burden on any operator nor increase the scope of the AD.

Cost Impact

The FAA estimates that 208 Model A319, A320, A321, A330, and A340 series airplanes of U.S. registry will be affected by this AD, that it will take approximately 3 work hours per airplane to accomplish the required actions, and that the average labor rate is $60 per work hour. Based on these figures, the cost impact of the AD on U.S. operators is estimated to be $37,440, or $180 per airplane.

The cost impact figure discussed above is based on assumptions that no operator has yet accomplished any of the requirements of this AD action, and that no operator would accomplish those actions in the future if this AD were not adopted.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-10-02 Airbus: Amendment 39-11726. Docket 99-NM-103-AD.

Applicability: All Model A319, A320, A321, A330, and A340 series airplanes; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

Note 2: Inspections and replacement actions accomplished prior to the effective date of this amendment, in accordance with Airbus All Operator Telex (AOT) 25-14 (for Model A319, A320, and A321 series airplanes), and AOT 25-13 (for Model A330 and A340 series airplanes), both dated December 17, 1998, are considered acceptable for compliance with the initial inspection and replacement actions specified by paragraph (a) of this AD.

Note 3: An initial detailed visual inspection accomplished during production prior to the effective date of this amendment is considered acceptable for compliance with the initial inspection required by paragraph (a) of this AD.

To prevent detachment of the footrest assembly actuator, which could result in partial blockage of the rudder pedals and reduced controllability of the airplane, accomplish the following:

Detailed Visual Inspections

(a) Within 500 flight hours after the effective date of this AD, perform a detailed visual inspection of the footrest actuator assembly for discrepancies (including bent pins and missing or incorrectly installed retaining rings and pins), in accordance with Airbus Service Bulletin A320-25-1220, dated November 19, 1999 (for Model A319, A320, and A321 series airplanes); A330-25-3105, dated October 22, 1999 (for Model A330 series airplanes); or A340-25-4131, dated October 22, 1999 (for Model A340 series airplanes); as applicable.

(1) If no discrepancy is detected: Repeat the inspection thereafter at intervals not to exceed 15 months.

(2) If any discrepancy is detected: Accomplish the actions of paragraphs (a)(2)(i) and (a)(2)(ii) of this AD.

(i) Prior to further flight, remove the actuator system from the footrest assembly and conduct a detailed visual inspection of the pins for damage, distortion, or wear in accordance with the applicable service bulletin. If any damage, distortion, or wear of the pin, or any discrepancy of the pin or the ring is detected, prior to further flight, replace that pin or ring with a new part in accordance with the applicable service bulletin. And

(ii) Repeat the detailed visual inspection of the footrest actuator assembly thereafter at intervals not to exceed 15 months.

Note 4: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc. may be used. Surface cleaning and elaborate access procedures may be required.”

Optional Terminating Actions

(b) Removal of the footrest assembly constitutes terminating action for the repetitive inspection requirements of this AD.

(c) Accomplishment of Modification 28472 during production, or Airbus Service Bulletin A320-25-1225, dated November 19, 1999 (for Model A319, A320, and A321 series airplanes); or accomplishment of Modification 47376 during production, or Airbus Service Bulletin A330-25-3110 or A340-25-4136, both dated December 23, 1999 (for Model A330 and A340 series airplanes); as applicable; constitutes terminating action for the inspection requirements of this AD.

Alternative Methods of Compliance

(d) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 5: Information concerning the existence of approved alternative methods of compliance with this AD, if any, may be obtained from the International Branch, ANM-116.

Special Flight Permits

(e) Special flight permits may be issued in accordance with §§ 21.197 and 21.199 of the Federal Aviation Regulations (14 CFR 21.197 and 21.199) to operate the airplane to a location where the requirements of this AD can be accomplished.

Incorporation by Reference

(f) The actions shall be done in accordance with Airbus Service Bulletin

A320-25-1220, dated November 19, 1999 (for Model A319, A320, and A321 series airplanes); Airbus Service Bulletin A320-25-1225, dated November 19, 1999 (for Model A319, A320, and A321 series airplanes); Airbus Service Bulletin A330-25-3105, dated October 22, 1999 (for Model A330 series airplanes); Airbus Service Bulletin A330-25-3110, dated December 23, 1999 (for Model A330 series airplanes); Airbus Service Bulletin A340-25-4131, dated October 22, 1999 (for Model A340 series airplanes); and Airbus Service Bulletin A340-25-4136, dated December 23, 1999 (for Model A340 series airplanes); as applicable. This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 6: The subject of this AD is addressed in French airworthiness directives 1999-047-110(B) R1 (for Model A340 series airplanes) and 1999-048-090(B) R1 (for Model A330 series airplanes), both dated December 15, 1999; and 1999-074-127(B), R1, dated January 26, 2000 (for Model A319, A320, and A321 series airplanes).

(g) This amendment becomes effective on June 19, 2000.

Issued in Renton, Washington, on May 8, 2000.
Vi L. Lipski,
Acting Manager, Transport Airplane Directorate, Aircraft Certification Service.

[FR Doc. 00-11949 Filed 5-12-00; 8:45 am]

BILLING CODE 4910-13-U